DEPARTMENT OF STATE

[Public Notice 11248]

Notice of Public Meeting in Preparation for International Maritime Organization Meeting

The Department of State will conduct a public meeting at 10 a.m. on Thursday, November 19, 2020, by way of teleconference. Members of the public may participate up to the capacity of the teleconference phone line, which will handle 500 participants. To access the teleconference line, participants should call (202) 475-4000 and use Participant Code: 415 533 25#.

The primary purpose of the meeting is to prepare for the 107th session of the International Maritime Organization's (IMO) Legal Committee to be held remotely, November 27 to December 1, 2020.

The agenda items to be considered include:

—Adoption of the agenda

—Report of the Secretary-General on credentials

—Facilitation of the entry into force and harmonized interpretation of the 2010 HNS Protocol

—Provision of financial security in case of abandonment of seafarers, and shipowners' responsibilities in respect of contractual claims for personal injury to, or death of, seafarers in light of the progress of amendments to the ILO Maritime Labour Convention, 2006

—Fair treatment of seafarers in the event of a maritime accident

—Advice and guidance in connection with the implementation of IMO instruments

—Measures to prevent unlawful practices associated with the fraudulent registration and fraudulent registries of ships

—Regulatory scoping exercise and gap analysis of conventions emanating from the Legal Committee with respect to Maritime Autonomous Surface Ships (MASS)

—Unified interpretation on the test for breaking the owner's right to limit liability under the IMO conventions

—Matters relating to the work of the legal Committee and the COVID-19 pandemic

—Piracy

—Work of other IMO bodies

—Technical cooperation activities related to maritime legislation

—Review of the status of conventions and other treaty instruments emanating from the Legal Committee

—Work programme

—Election of officers

—Any other business

—Consideration of the report of the Committee on its 107th session

Please note: IMO's Legal Committee may, on short notice, adjust the LEG 107 agenda to accommodate the constraints associated with the virtual meeting format. Those who RSVP will be notified of any agenda changes that the coordinator is aware of.

Those who plan to participate may contact the meeting coordinator, LT Jessica Anderson, by email at Jessica.P.Anderson@uscg.mil, by phone at (202) 372-1376, or in writing at 2703 Martin Luther King Jr. Ave. SE Stop 7509, Washington DC 20593-7509.

Additional information regarding this and other IMO public meetings may be found at: https://www.dco.uscg.mil/IMO.

Jeremy M. Greenwood,
Coast Guard Liaison Officer, Office of Ocean and Polar Affairs, Department of State.

[FR Doc. 2020-24213 Filed 10-30-20; 8:45 am]

BILLING CODE 4710-09-P